DEPARTMENT OF HOUSING AND URBAN DEVELOPMENT

[Docket No. FR-5603-N-75]

Notice of Submission of Proposed Information Collection to OMB; Rental Assistance Demonstration (RAD); Supporting Contracts and Processing Requirements

AGENCY: Office of the Chief Information Officer, HUD.

ACTION: Notice.

SUMMARY: The proposed information collection requirement described below has been submitted to the Office of Management and Budget (OMB) for review, as required by the Paperwork Reduction Act. The Department is soliciting public comments on the subject proposal.

The Rental Assistance Demonstration allows Public Housing and Moderate Rehabilitation (Mod Rehab) properties to convert to long-term Section 8 rental assistance contracts; and Rent Supplement (Rent Supp), Rental Assistance Payment (RAP), and Mod Rehab properties, upon contract expiration or termination, to convert tenant protection vouchers (TPVs) to project-based vouchers (PBVs). Participation in the initiative will be voluntary. Public Housing Agencies, Mod Rehab owners interested in participating in the Demonstration are required to submit supplementary documentation through these processing requirements to HUD so that HUD can determine throughout the conversion process the physical and financial sustainability of properties. As such, the processing requirements will demonstrate to HUD that the applicant will be able to leverage private financing to address immediate and long-term capital needs, improve operations, and implement energy efficiency improvements. The processing information request will be in a Webbased portal and will be pre-populated with data HUD is collecting from the RAD Application, which is currently undergoing its 30 day review under cover of a separate PRA. Overall, supplementary documentation and information requested will allow the Department to determine which applicants continue to meet the eligibility requirements and have the capacity to successfully meet RAD's mission delineated in PIH Notice PIH-2012-32: Rental Assistance Demonstration—Final Implementation Notice. Finally, all applicants will be required to sign the appropriate contractual documents to complete conversion and bind both the applicant and HUD, as well as set forth the rights and duties of the applicant and HUD, with respect to the converted project and any payments under that project. This requirement is for all applicants in the Public Housing, Mod Rehab, Rent Supp and RAP programs. To review draft versions of the processing requirements and the contractual documentation please visit the RAD Web site: www.hud.gov/rad/.

DATES: Comments Due Date: November 23, 2012.

ADDRESSES: Interested persons are invited to submit comments regarding this proposal. Comments should refer to the proposal by name and/or OMB approval Number (2577-0276) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This notice also lists the following information:

Title of Proposed Collection: Rental Assistance Demonstration (RAD); Supporting Contracts and Processing Requirements.

OMB Approval Number: 2577-0276.

Form Numbers: HUD-52610, HUD-52620, HUD-52612, HUD-52624, HUD-52621, HUD-52613, HUD-52617, HUD-52618, HUD-52625, HUD-52623, HUD-52622, HUD-52619, HUD-52615, HUD-52616, HUD-52614, HUD-52611.

Description of the need for the information and proposed use: The Rental Assistance Demonstration allows Public Housing and Moderate Rehabilitation (Mod Rehab) properties to convert to long-term Section 8 rental assistance contracts; and Rent Supplement (Rent Supp), Rental Assistance Payment (RAP), and Mod Rehab properties, upon contract expiration or termination, to convert tenant protection vouchers (TPVs) to project-based vouchers (PBVs). Participation in the initiative will be voluntary. Public Housing Agencies, Mod Rehab owners interested in participating in the Demonstration are required to submit supplementary documentation through these processing requirements to HUD so that HUD can determine throughout the conversion process the physical and financial sustainability of properties. As such, the processing requirements will demonstrate to HUD that the applicant will be able to leverage private financing to address immediate and long-term capital needs, improve operations, and implement energy efficiency improvements. The processing information request will be in a Webbased portal and will be pre-populated with data HUD is collecting from the RAD Application, which is currently undergoing its 30 day review under cover of a separate PRA. Overall, supplementary documentation and information requested will allow the Department to determine which applicants continue to meet the eligibility requirements and have the capacity to successfully meet RAD's mission delineated in PIH Notice PIH-2012-32: Rental Assistance Demonstration—Final Implementation Notice. Finally, all applicants will be required to sign the appropriate contractual documents to complete conversion and bind both the applicant and HUD, as well as set forth the rights and duties of the applicant and HUD, with respect to the converted project and any payments under that project. This requirement is for all applicants in the Public Housing, Mod Rehab, Rent Supp and RAP programs. To review draft versions of the processing requirements and the contractual documentation please visit the RAD Web site: www.hud.gov/rad/.

| Number of respondents | Annual responses | × | Hours per response | = | Burden hours
Reporting Burden | 2,539 | 1 |  | 2.906 |  | 7,379

Total estimated burden hours: 7,379.

Status: Revision of a currently approved collection.

Authority: Section 3507 of the Paperwork Reduction Act of 1995, 44 U.S.C. 35, as amended

Dated: October 17, 2012.
Colette Pollard,
Department Reports Management Officer, Office of the Chief Information Officer.

[FR Doc. 2012-25987 Filed 10-22-12; 8:45 am]

BILLING CODE 4210-67-P